DEPARTMENT OF COMMERCE

National Oceanic and Atmospheric Administration

[I.D. 092004F]

New England Fishery Management Council; Public Meetings

AGENCY: National Marine Fisheries Service (NMFS), National Oceanic and Atmospheric Administration (NOAA), Commerce.

ACTION: Notice of a public meeting.

SUMMARY: The New England Fishery Management Council (Council) is scheduling a public meeting of its Habitat Advisory Panel in October, 2004. Recommendations from the panel will be brought to the full Council for formal consideration and action, if appropriate.

DATES: The meeting will be held on Wednesday, October 13, 2004 from 12 noon until 5 p.m.

ADDRESSES: The meeting will be held at the Sheraton Ferncroft Hotel, 50 Ferncroft Road, Danvers, MA 01932; telephone: (978) 777-2500.

Council address: New England Fishery Management Council, 50 Water Street, Newburyport, MA 01950.

FOR FURTHER INFORMATION CONTACT: Paul J. Howard, Executive Director, New England Fishery Management Council; telephone: (978) 465-0492.

SUPPLEMENTARY INFORMATION: The Advisory Panel will review the gear descriptions developed for Amendment 13 to the Northeast Multispecies Fishery Management Plan and begin preparation of documentation on the subtypes of gear used in the Northeast region and include the following information: (1) Name of gear type or sub-type; (2) principle species captured; (3) geographic area, bottom types, depths where it's used; (4) description of how these gears are used including information regarding fishing intensity, frequency and seasonality of specific gear use; (5) distinguishing features of gear (e.g., range of footrope/headrope lengths, bottom gear attached to footrope, mesh size, type/size of doors); and (6) anything else that would affect how much of the gear contacts the bottom or how “hard” net fishes the bottom.

The Advisory Panel will also consider whether currently proposed or additional areas to those identified in the original “Dedicated Habitat Research Area” (DHRA) document should be considered as the Council develops its Essential Fish Habitat Omnibus amendment and will develop advice on the attributes of any suggested DHRA alternatives. The panel may consider other additional topics at the discretion of the Chair.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: September 21, 2004.
Alan D. Risenhoover,
Acting Director, Office of Sustainable Fisheries, National Marine Fisheries Service.

[FR Doc. E4-2362 Filed 9-23-04; 8:45 am]

BILLING CODE 3510-22-S